DEPARTMENT OF COMMERCE

[I.D.010801C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA’s Teacher-At-Sea Program.

Form Number(s): None.

OMB Approval Number: 0648-0283.

Type of Request: Regular submission.

Burden Hours: 309.

Number of Respondents: 375.

Average Hours Per Response: 75 minutes for an application, 15 minutes for recommendations, 2 hours per report.

Needs and Uses: The Teacher-At-Sea Program provides educators with the opportunity to participate in research projects aboard NOAA vessels. The respondents are educators who provide information about themselves and their teaching situation and who submit a follow-up report with ideas for classroom applications. Recommendations are also required.

Affected Public: Individuals and households.

Frequency: On occasion.

Respondent's Obligation: Required to obtain or retain a benefit.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 5, 2001.
Madeleine Clayton,
Departmental Forms Clearance Officer, Office of the Chief Information Officer.

[FR Doc. 01-1065 Filed 1-11-01; 8:45 am]

BILLING CODE 3510-12-S